ENVIRONMENTAL PROTECTION AGENCY

[FRL-7250-7]

LCP-Holtrachem Superfund Site; Notice of Proposed Settlement

AGENCY: Environmental Protection Agency (EPA).

ACTION: Notice of proposed consent order.

SUMMARY: The United States Environmental Protection Agency is proposing to enter into a consent order for a removal action pursuant to section 122 of the Comprehensive Environmental Response, Compensation, and Liability Act of 1980, as amended, regarding the LCP-Holtrachem Superfund Site located in Riegelwood, Columbus County, North Carolina. EPA will consider public comments on the cost recovery component of the proposed settlement, section VIII, for thirty (30) days. EPA may withhold consent to all or part of section VIII of the proposed settlement should such comments disclose facts or considerations which indicate section VIII is inappropriate, improper or inadequate. Copies of the proposed settlement are available from: Ms. Paula V. Batchelor, U.S. EPA, Region 4 (WMD-CPSB), Sam Nunn Atlanta Federal Center, 61 Forsyth Street, SW., Atlanta, Georgia 30303, (404) 562-8887.

Written comments may be submitted to Ms. Batchelor within thirty (30) calendar days of the date of this publication.

Dated: July 11, 2002.
James T. Miller,
Acting Chief, CERCLA Program Services Branch, Waste Management Division.

[FR Doc. 02-18714 Filed 7-23-02; 8:45 am]

BILLING CODE 6560-50-P